DEPARTMENT OF HOUSING AND URBAN DEVELOPMENT

[Docket No. FR-4740-N-01]

Letter of Transmittal; Resolution of Board of Director and Certificate of Authorized Signatures; and Master Servicing Agreement; Notice of Proposed Information Collection: Comment Request

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: April 15, 2002.

ADDRESSES: Interested persons are invited to submit comments regarding this proposal. Comments should refer to the proposal by name and/or OMB Control Number and should be sent to: Sonya Suarez, Office of Program Operations, Department of Housing & Urban Development, 451 7th Street, SW., Room 6226, Washington, DC 20410.

FOR FURTHER INFORMATION CONTACT: Sonya Suarez, Ginnie Mae, (202) 708-2772 (this is not a toll-free number) for copies for the proposed forms and other available documents.

SUPPLEMENTARY INFORMATION: The Department will submit the proposed information collection to OMB for review, as required by the Paperwork Reduction Act of 1995 (44 U.S.C. Chapter 35, as amended).

The Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: (1) Letter of Transmittal, (2) Resolution of Board of Directors and Certificate of Authorized Signatures, and (3) Master Servicing Agreement.

OMB Control Number, if applicable: 2503-0016.

Description of the Need for the Information and Proposed Use

The purpose of the Letter of Transmittal is to provide issuers with a form to transmit documentation to Ginnie Mae when requesting Ginnie Mae's action on certain activities such as requests for commitment authority and pool numbers. The Resolution of Board of Directors and Certificate of Authorized Signature is used by the issuers to provide a list of the names and signatures of officers of the company authorized to execute documents with respect to issuance of securities. The Master Servicing Agreement is used to provide assurance to Ginnie Mae that servicing the mortgages backing the securities approved for issuance will be performed in accordance with acceptable standards of mortgage servicing. It is also used to determine whether the issuer of the pool is the sole servicer or whether the issuer has established a sub-contract servicer arrangement with another institution to perform certain servicing functions on behalf of the issuer.

Agency form numbers, if applicable: HUD form 11700, 11702, and 11707.

Members of affected public: For profit business (mortgage companies, thrifts, savings & loans, etc.)

Estimation of the Total Numbers of Hours Needed To Prepare the Information Collection Including Number of Respondents, Frequency of Response, and Hours of Response
HUD form | Respondents | Frequency of response | Hours per response * | Total annual responses | Total hours
11700 | 275 | 2 | .17 | 500 | 93.5
11702 | 275 | 1 | .17 | 275 | 46.8
11707 | 275 | 1 | .17 | 275 | 46.8
Total |  |  |  | 1,100 | 187.1
* Approximately 10 minutes.

Status of the proposed information collection: Extension of a currently approved collection.

Authority: Section 3506 of the Paperwork Reduction Act of 1995, 44 U.S.C. Chapter 35, as amended.

Dated: February 5, 2002
George S. Anderson,
Executive Vice President, Ginnie Mae.

[FR Doc. 02-3415 Filed 2-12-02; 8:45 am]

BILLING CODE 4120-01-M